DEPARTMENT OF TRANSPORTATION

Federal Motor Carrier Safety Administration

[Docket No. FMCSA-2006-26367]

Motor Carrier Safety Advisory Committee: Public Meeting

AGENCY: Federal Motor Carrier Safety Administration (FMCSA), DOT.

ACTION: Notice of meeting of Motor Carrier Safety Advisory Committee (MCSAC).

SUMMARY: FMCSA announces that MCSAC will hold a meeting on Monday-Wednesday, August 27-29, 2012. On Monday, August 27, 2012, MCSAC will be provided with briefings on the major motor carrier safety provisions of the recently enacted Moving Ahead for Progress in the 21st Century (MAP-21) [Pub. L. 112-140] surface transportation act and the Agency's Compliance, Safety, and Accountability (CSA) program and assigned a new task concerning CSA. Additionally, the MCSAC will establish a subcommittee on CSA to provide concepts, ideas, and recommendations on the program. On Monday afternoon, the Cross-Border Trucking Pilot Subcommittee will convene for a status update from the Agency. On Tuesday, August 28, 2012, MCSAC will be given a new task to provide ideas and concepts concerning the Regulatory Flexibility Act Section 610 review process and will hear presentations on that topic. Wednesday morning, August 29, 2012, will be reserved for MCSAC's Motorcoach Hours-of-Service (HOS) subcommittee. All three days of the meeting will be open to the public.

DATES: Time and Dates: The meetings will be held on Monday-Tuesday, August 27-28, 2012, from 8:30 a.m. to 5 p.m., Eastern Daylight Time (E.D.T.), and on Wednesday, May 29, 2012, from 8:30 a.m. to 12:00 p.m., E.D.T. The meetings will be held at the Hilton Alexandria Old Town, 1767 King Street, Alexandria, VA 22314 in the Washington and Jefferson Rooms on the 2nd floor. The Hilton Alexandria Old Town is located across the street from the King Street Metro station.

Copies of all MCSAC Task Statements and an agenda for the entire meeting will be made available in advance of the meeting at http://mcsac.fmcsa.dot.gov.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals With Disabilities

For information on facilities or services for individuals with disabilities or to request special assistance at the meeting, contact Elizabeth Turner at (617) 494-2068, elizabeth.turner@dot.gov, by Wednesday, August 15, 2012.

SUPPLEMENTARY INFORMATION:

I. Background

MCSAC

Section 4144 of the Safe, Accountable, Flexible, Efficient Transportation Equity Act: A Legacy for Users (SAFETEA-LU, Public Law 109-59, 119 Stat. 1144, August 10, 2005) required the Secretary of Transportation to establish the MCSAC. The MCSAC provides advice and recommendations to the FMCSA Administrator on motor carrier safety programs and regulations, and operates in accordance with the Federal Advisory Committee Act (FACA, 5 U.S.C. App 2).

II. Meeting Participation

Oral comments from the public will be heard during the last half-hour of the meetings on Monday and Tuesday and during the last 15 minutes of the meeting on Wednesday. Should all public comments be exhausted prior to the end of the specified period, the comment period will close. Members of the public may submit written comments on the topics to be considered during the meeting by Wednesday, May 16, 2012, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: July 27, 2012.
Larry W. Minor,
Associate Administrator for Policy.

[FR Doc. 2012-18901 Filed 8-2-12; 8:45 am]

BILLING CODE 4910-EX-P